Title 3—

The President

Proclamation 8361 of April 14, 2009

Pan American Day And Pan American Week, 2009

By the President of the United States of America

A Proclamation

A common heritage, an interconnected world, and shared goals and values unite the Pan American community. As a proud member of this group of countries, the United States celebrates Pan American Day and Pan American Week and commits to working with our partners in the Organization of American States to advance a common future.

The Pan American community is highly interwoven, and the peoples of the Americas must work together to build the future we seek. When one country faces economic, security, or health challenges, its neighbors share in this hardship. Together, the Pan American community can build strong partnerships to surmount common concerns and further mutual success.

The broad scope of shared goals includes economic growth and equality, increased security, strong democratic governance, and clean energy. Robust, bottom-up economic growth benefits all citizens and all nations, and remains a central goal of the Pan American community. Together, the countries of the Americas can prioritize and enact policies that ensure a shared and equitable economic prosperity. This economic future is possible only if we protect the safety of citizens and the security of our countries. Whether reducing street crime and gang violence, decreasing the narcotics trade, or preventing acts of terrorism, every country has a stake in regional security.

The Pan American community also supports strong democracies and the development of alternative energy sources. The promotion of transparent and enduring democratic governance strengthens and defines relations in the region and should emphasize the rule of law, a robust civil society, respect for human rights, social equality, and effective delivery of public services. Finally, every country benefits from a solution to our shared energy and climate challenges. The region has already witnessed great leadership in the development and deployment of alternative energy sources, and the Pan American community must build upon these promising efforts.

As we celebrate Pan American Day and Pan American Week, and participate in the Summit of the Americas, the United States recognizes the common challenges and aspirations that unite the region and the boundless promise of our continuing partnership.

NOW, THEREFORE, I, BARACK OBAMA, President of the United States of America, by virtue of the authority vested in me by the Constitution and laws of the United States, do hereby proclaim April 14, 2009, as Pan American Day and April 12 through 18 as Pan American Week. I urge the Governors of the 50 States, the Governor of the Commonwealth of Puerto Rico, and the officials of other areas under the flag of the United States of America to honor these observances with appropriate ceremonies and activities.

IN WITNESS WHEREOF, I have hereunto set my hand this fourteenth day of April, in the year of our Lord two thousand nine, and of the Independence of the United States of America the two hundred and thirty-third.

[FR Doc. E9-9038

Filed 4-16-09; 8:45 am]

Billing code 3195-W9-P